DEPARTMENT OF COMMERCE

Submission for OMB Review; Comment Request

The Department of Commerce will submit to the Office of Management and Budget (OMB) for clearance the following proposal for collection of information under the provisions of the Paperwork Reduction Act (44 U.S.C. Chapter 35).

Agency: Minority Business Development Agency (MBDA).

Title: Focus Groups on Minority-Owned Business Growth, Opportunities and Barriers to Global Commerce.

OMB Control Number: 0640-0027.

Form Number(s): None.

Type of Request: Regular submission (reinstatement with change of a previously approved information collection).

Number of Respondents: 100.

Average Hours per Response: 3 hours.

Burden Hours: 300.

Needs and Uses: The U.S. Department of Commerce's National Advisory Council on Minority Business Enterprise has been working on recommendations for the Secretary of Commerce on domestic and global growth strategies and programs for minority-owned businesses. The recommendations are also in support of the President's National Export Initiative (NEI), which calls for doubling U.S. exports in five years.

The Council, which is managed by the Minority Business Development Agency, will hold a series of focus groups (five to ten) to gather qualitative data on minority-owned businesses strategies and barriers to business growth domestically and through exports. The collection is necessary because currently there are no sources of qualitative data available that provide this kind of information.

The focus groups will be held, upon approval, in January and February of 2012. The Council will invite minority business owners representing diverse geographic locations, industries, firm sizes, and growth performance. Findings from the Focus groups will be used to inform Final Recommendations to the Secretary of Commerce to be delivered in April 2012.

The change from previous request is that MBDA will be conducting focus groups instead of using a survey to collect the same information.

Affected Public: Business or other for-profit organizations (minority-owned businesses, entrepreneurs).

Frequency: One-time only.

Respondent's Obligation: Voluntary.

OMB Desk Officer:. Nicholas Fraser, (202) 395-5887.

Copies of the above information collection proposal can be obtained by calling or writing Diana Hynek, Departmental Paperwork Clearance Officer, (202) 482-0266, Department of Commerce, Room 6616, 14th and Constitution Avenue NW, Washington, DC 20230 (or via the Internet at dHynek@doc.gov).

Written comments and recommendations for the proposed information collection should be sent within 30 days of publication of this notice to Nicholas Fraser, OMB Desk Officer, FAX number (202) 395-7285, or via the Internet at Nicholas_A._Fraser@omb.eop.gov.

Dated: December 12, 2011.
Gwellnar Banks,
Management Analyst, Office of the Chief Information Officer.

[FR Doc. 2011-32215 Filed 12-15-11; 8:45 am]

BILLING CODE 3510-21-P